ENVIRONMENTAL PROTECTION AGENCY

40 CFR Part 300

[FRL-7034-9]

National Oil and Hazardous Substances Pollution Contingency Plan; National Priorities List

AGENCY: Environmental Protection Agency.

ACTION: Direct final deletion of the V&M/Albaladejo Superfund Site from the National Priorities List.

SUMMARY: The Environmental Protection Agency (EPA), Region II, announces the deletion of the V&M/Albaladejo Superfund Site (Site), located in the Almirante Norte Ward of the municipality of Vega Baja, Puerto Rico, from the National Priorities List (NPL) and requests public comment on this action.

The NPL is Appendix B of the National Oil and Hazardous Substances Pollution Contingency Plan (NCP), 40 CFR part 300, which EPA promulgated pursuant to section 105 of the Comprehensive Environmental Response, Compensation, and Liability Act (CERCLA) of 1980, as amended. This Direct Final Notice of Deletion is being published by EPA with the concurrence of the Commonwealth of Puerto Rico, through the Puerto Rico Environmental Quality Board (EQB). EPA and EQB have determined that all appropriate response actions under CERCLA have been completed and, therefore, no further cleanup pursuant to CERCLA is appropriate. Moreover, EPA and EQB have determined that the Site poses no significant threat to public health or the environment.

DATES: This direct final deletion will be effective October 22, 2001 unless EPA receives significant adverse comments by September 20, 2001. If significant adverse comments are received, EPA will publish a timely withdrawal of the direct final deletion in the Federal Register, informing the public that the deletion will not take effect.

ADDRESSES: Comments may be mailed to: Caroline Kwan, Remedial Project Manager, Emergency and Remedial Response Division, U.S. Environmental Protection Agency, Region II, 290 Broadway, 20th Floor, New York, New York 10007-1866.

Information Repositories

Comprehensive information about the Site is available for viewing and copying at the Site information repositories located at:

U.S. Environmental Protection Agency, Region II, Superfund Records Center, 290 Broadway, Room 1828, New York, New York 10007-1866, (212) 637-4308, Hours: 9 a.m. to 5 p.m., Monday through Friday; and,

Vega Baja City Hall, Corner of Jose Francisco Nater and Betances Streets, P.O. Box 4555, Vega Baja, Puerto Rico 00693, (787) 855-2500/2515, Hours: 9 a.m. to 4:30 p.m., Monday through Friday; and,

U.S. Environmental Protection Agency, Caribbean Environmental Protection Division, Centro Europa Building, 1492 Ponce De Leon Avenue, Suite 207, Santurce, Puerto Rico 00907, (787) 729-6951 Ext. 263, Hours: 8 a.m. to 3 p.m., Monday through Friday; By Appointment, and,

Puerto Rico Environmental Quality Board, Emergency Response and Superfund Program, National Bank Plaza, 431 Ponce De Leon Avenue, Hato Rey, Puerto Rico 00917, (787) 767-8181 Ext. 2230, Hours: 9 a.m. to 3 p.m., Monday through Friday, By Appointment.

FOR FURTHER INFORMATION CONTACT: Ms. Caroline Kwan, Remedial Project Manager, U.S. EPA Region II, 290 Broadway, 20th Floor, New York, New York 10007-1866, (212) 637-4275; Fax Number (212) 637-4284; email address: Kwan.Caroline@EPA.GOV.

SUPPLEMENTARY INFORMATION:

Table of Contents

I. Introduction

II. NPL Deletion Criteria

III. Deletion Procedures

IV. Basis for Site Deletion

I. Introduction

EPA Region II announces the deletion of the V&M/Albaladejo Superfund Site from the NPL. The EPA maintains the NPL as the list of those sites that appear to present a significant risk to public health or the environment. Sites on the NPL can have remedial actions financed by the Hazardous Substances Superfund Response Trust Fund. As described in Section 300.425(e)(3) of the NCP, a site deleted from the NPL remains eligible for remedial actions if conditions at the site warrant such action.

EPA considers this action to be noncontroversial and routine, and therefore, EPA is taking it without prior publication of a Notice of Intent to Delete. This action will be effective October 22, 2001 unless EPA receives significant adverse comments by September 20, 2001 on this action. If significant adverse comments are received within the 30-day public comment period of this action, EPA will publish a timely withdrawal of this Direct Final Deletion before the effective date of the deletion and the deletion will not take effect. EPA will, if appropriate, prepare a response to comments and continue with the deletion process on the basis of the Notice Intent to Delete and the comments already received. There will be no additional opportunity to comment.

Section II explains the criteria for deleting sites from the NPL. Section III discusses procedures that EPA is using for this action. Section IV discusses the V&M/Albaladejo Superfund Site and demonstrates how it meets the deletion criteria.

II. NPL Deletion Criteria

Section 300.425(e) of the NCP provides that Sites may be deleted from the NPL where no further response is appropriate. In making this determination, EPA, in consultation with the Commonwealth, shall consider whether any of the following criteria have been met:

i. Responsible parties or other parties have implemented all appropriate response actions required; or,

ii. All appropriate Fund-financed responses under CERCLA have been implemented, and no further action by responsible parties is appropriate; or

iii. The remedial investigation has shown that the release poses no significant threat to public health or the environment and, therefore, implementing remedial measures is not appropriate.

EPA will not conduct any further reviews of this Site because EPA believes that this Site is suitable for unlimited use and unrestricted exposure. If new information becomes available which indicates a need for further action, EPA may initiate such actions based upon § 300.425(e)(3) of the NCP.

III. Deletion Procedures

The following procedures apply to deletion of the Site.

(1) From January 1998 to June 1998, EPA conducted a removal action at the Site.

(2) EPA conducted confirmatory sampling and a remedial investigation to determine the extent of the contamination of soil and groundwater at the Site.

(3) On September 29, 2000, EPA issued a Record of Decision which selected a no further action remedy for the Site. EPA also issued a Final Close Out report on September 29, 2000 which summarized the actions taken at the Site.

(4) The EPA consulted with the Commonwealth of Puerto Rico Environmental Quality Board on the deletion of the Site from the NPL prior to developing this Direct Final Deletion.

(5) The Commonwealth of Puerto Rico concurred with the deletion of the Site from the NPL on November 3, 2000.

(6) Concurrently with the publication of this Direct Final Deletion, a parallel Notice of Intent to Delete has been published today in the Notice section of the Federal Register. Notices are also being published in local newspapers and appropriate notice is being provided to federal, state, and local government officials and other interested parties.

(7) The EPA placed copies of documents supporting the deletion in the Site information repositories identified above.

(8) If no significant adverse comments are received, the Site will be deleted. If significant adverse comments are received within the 30-day public comment period on this action or the Notice of Intent to Delete published in today's Federal Register, EPA will publish a timely notice of withdrawal of this Direct Final Deletion before its effective date. EPA will prepare, if appropriate, a response to comments and continue with the deletion process on the basis of the notice of Intent to Delete and the comments already received.

Deletion of a site from the NPL does not itself create, alter, or revoke any individual's rights or obligations. Deletion of a site from the NPL does not in any way alter EPA's right to take enforcement actions, as appropriate. The NPL is designed primarily for informational purposes and to assist EPA management.

IV. Basis for Site Deletion

The V&M/Albaladejo Site is located off State Road No. 160, Kilometer 4.2 in the Almirante Norte Ward of the municipality of Vega Baja, Puerto Rico. It is reached via a dirt road extending about one mile west from Route 160. The exact Site acreage is unknown but generally consists of two farms, the V&M property and the Albaladejo Farm. The area is rural and characterized by rugged, heavily-vegetated, hilly terrain with small farms located in the valleys. The region is sparsely populated within a one-mile radius of the Site. Fewer than 100 residents are estimated to live within one-quarter mile of the Site.

The Site was used for burning and/or dumping of plastic-coated electric cables, electrical equipment, and car batteries. Wire and other materials were burned to recover the copper, aluminum, and lead contained therein. No containment (i.e., berm, liner) system is known to have been used nor has any been observed. It is not known when the burning activity began at the Site. One of the farm owners reported that trucks had been entering the Site carrying wastes since 1985. Burning reportedly ceased on the V&M property in 1986 when it was purchased by its current owner, but continued on the Albaladejo Farm into 1988. The total quantity of waste disposed and burned at the Site is unknown. Four historical waste disposal/burn areas were identified.

In August 1988, the Puerto Rico Environmental Quality Board (EQB) conducted a preliminary assessment at the Site. In January 1989, EPA conducted a site investigation which found elevated levels of copper and antimony in surface soil samples at the Site.

In June 1996, the V&M Site was proposed to the National Priorities List (NPL), with the final listing on December 26, 1996.

A time-critical removal action was conducted from January through June 1998. Based on previous sampling information, contaminated soils were excavated from the four zones. In total, approximately 5,565 cubic yards of contaminated soils were excavated, stockpiled, and stabilized on-Site in a designated area prior to their removal and proper off-Site disposal. The removal action was completed in June 1998.

Confirmatory testing of burn area soils after the excavation of contaminated soils indicated that the concentrations of lead generally had been reduced to below an average concentration of 400 ppm, a level EPA has determined to be protective of children in a residential environment.

Between March and November, 1998, EPA collected four rounds of groundwater samples from six on-Site monitoring wells during the Remedial Investigation (RI) for the V&M Site. Results indicated a decrease in detection of inorganic analytes in the groundwater, coinciding with the completion of the soil removal action. The decrease in levels of inorganics indicated the successful removal of contaminated soil, the source of groundwater contamination. Round 4 sample results were all below drinking water standards.

On September 29, 2000, EPA issued a Record of Decision, selecting No Further Action as the remedy for the Site. It was determined that site-related groundwater contamination does not pose a significant threat to human health or the environment; therefore, remediation is not necessary.

The EPA, with concurrence of the Commonwealth of Puerto Rico, has determined that all appropriate responses under CERCLA have been completed, and that no further response actions under CERCLA are necessary. Therefore, EPA is deleting the Site from the NPL.

List of Subjects in 40 CFR Part 300

Environmental protection, Air pollution control, Chemicals, Hazardous waste, Hazardous substances, Intergovernmental relations, Penalties, Reporting and recordkeeping requirements, Superfund, Water pollution control, Water supply.

Dated: August 2, 2001.
William J. Muszynski,
Acting Regional Administrator, U.S. EPA, Region II.

For the reasons set out in this document 40 CFR part 300 is amended as follows:

PART 300—[AMENDED]

The authority citation for part 300 continues to read as follows:

Authority: 33 U.S.C. 1321(c)(2); 42 U.S.C. 9601-9675; E.O. 12777, 56 FR 54757, 3 CFR, 1991 Comp., p. 351; E.O. 12580, 52 FR 2923, 3 CFR, 1987 Comp., p. 193.

Appendix B—[Amended]

2. Table 1 of Appendix B to part 300 is amended under Puerto Rico (PR) by removing the site name “V&M/Albaladejo” and the city “Almirante Norte Ward”.

[FR Doc. 01-20890 Filed 8-20-01; 8:45 am]

BILLING CODE 6560-50-P